DEPARTMENT OF ENERGY

Conveyance and Transfer of Certain Land Tracts Administered by the Department of Energy and Located at Los Alamos National Laboratory, Los Alamos and Santa Fe Counties, NM

AGENCY: Department of Energy, National Nuclear Security Administration

ACTION: Amended record of decision.

SUMMARY: The U.S. Department of Energy's National Nuclear Security Administration (DOE/NNSA) is amending the Record of Decision (ROD) for the Environmental Impact Statement for the Conveyance and Transfer of Certain Land Tracts Administered by the Department of Energy and Located at Los Alamos National Laboratory, Los Alamos and Santa Fe Counties, New Mexico, DOE/EIS-0293 (Conveyance and Transfer EIS) to reflect changes in the need to retain a certain portion of a land tract withheld earlier due to potential national security mission requirements for a health and safety buffer area relating to on-going operations. Specifically, DOE/NNSA has reassessed its need for a certain portion of a tract to serve as a health and safety buffer area for current and post-operations cleanup of its tritium-related activities at Los Alamos National Laboratory's (LANL's) Technical Area 21 (TA-21). DOE/NNSA no longer needs to retain a 32.3-acre portion of the Airport Tract located along the south side of State Road 502 for this purpose.

FOR FURTHER INFORMATION CONTACT: For further information concerning the conveyance or transfer of land tracts or this amended ROD, contact: Elizabeth Withers, NEPA Compliance Officer, Los Alamos Site Office, National Nuclear Security Administration, 528 35th Street, Los Alamos, NM 87004 Telephone (505) 667-8690.

For further information concerning DOE's National Environmental Policy Act (NEPA) process, contact: Ms. Carol Borgstrom, Director, Office of NEPA Policy and Compliance (EH-42), U.S. Department of Energy, 1000 Independence Avenue, SW., Washington, DC 20585, Telephone (202) 586-4600, or leave a message at 1-800-472-2756.

Additional information regarding the DOE NEPA process and activities is also available on the Internet through the NEPA home page at http://www.eh.doe.gov/nepa. Copies of the Conveyance and Transfer EIS and the 2000 ROD are also available on the NEPA Web site, along with this and one other amended RODs (discussed in later paragraphs).

SUPPLEMENTARY INFORMATION:

I. Background

A. Legal Requirements for Action

LANL is one of several national security laboratories that support DOE's and NNSA's responsibilities for national security, energy resources, environmental quality, and science. Located in north-central New Mexico, LANL is about 60 miles (97 kilometers) north-northeast of Albuquerque, and about 25 miles (40 kilometers) northwest of Santa Fe. The small communities of Los Alamos townsite, White Rock, Pajarito Acres, the Royal Crest Mobile Home Park, and San Ildefonso Pueblo are located in the immediate vicinity of LANL. LANL occupies an area of approximately 25,600 acres (10,360 hectares), or approximately 40 square miles (104 square kilometers). DOE also has administrative control over other properties and land within Los Alamos County that total about 915 acres (371 hectares).

On November 26, 1997, Congress passed Public Law 105-119, the Departments of Commerce, Justice, and State, the Judiciary, and Related Agencies Appropriations Act, Fiscal Year 1998 (“the Act”). Section 632 of the Act (42 U.S.C. 2391) directs the Secretary of Energy (the Secretary) to convey to the Incorporated County of Los Alamos, New Mexico, or to the designee of the County, and transfer to the Department of the Interior, in trust for the San Ildefonso Pueblo, parcels of land under the jurisdictional administrative control of the Secretary at or in the vicinity of LANL. Such parcels, or tracts, of land must meet suitability criteria established by the Act. The purpose of the conveyances and transfers is to fulfill the obligations of the United States with respect to Los Alamos, New Mexico, under sections 91 and 94 of the Atomic Energy Community Act of 1955 (AECA) (42 U.S.C. 2391, 2394). Upon the completion of the conveyance or transfer, the Secretary of Energy shall make no further financial assistance payments with respect to LANL under the AECA.

The Act sets forth the criteria, processes, and dates by which the tracts will be selected, titles to the tracts reviewed, environmental issues evaluated, and decisions made as to the allocation of the tracts between the two recipients. DOE's responsibilities under the Act include identifying potentially suitable tracts of land according to criteria set forth in the law (Land Transfer Report, April 1998); conducting a title search on each tract of land (Title Report, September 1998); identifying any environmental restoration and remediation that would be needed for each tract of land (Environmental Restoration Report, August 1999); conducting National Environmental Policy Act of 1969 (NEPA) review of the proposed conveyance or transfer of the land tracts (the Conveyance and Transfer EIS, October 1999, distributed in January 2000); reporting to Congress on the results of the Environmental Restoration Report review and the final Conveyance and Transfer EIS (Combined Data Report, January 2000); and preparing a plan for conveying or transferring land according to the allocation agreement of parcels for Congress (Conveyance and Transfer Plan, April 2000). The Act further states that the Secretary must, to the maximum extent practicable, conduct any needed environmental restoration or remediation activities within 10 years of enactment (by November 26, 2007), and convey and transfer the tracts meeting the suitability criteria. Under the Act, DOE neither had a role in the designation of recipients, nor in how the parcels of land were to be allocated between the recipients. As specified in PL 105-119, the actual disposition of each tract, or portion of a tract, would be subject to DOE's need for the individual tract, or a portion of the tract, to meet a national security mission support function, which could range from either direct or indirect activity involvement. Additionally, the disposition of each tract, or portion of a tract, would be subject to DOE's completion of any necessary environmental restoration or remediation required.

B. Previous Decision on the Conveyance and Transfer Actions

In the 2000 ROD for the Conveyance and Transfer EIS (65 Federal Register (FR), Number 54, Page 14952, March 20, 2000), DOE stated its decision to convey and transfer each of the ten subject tracts, either in whole or in part, by November 26, 2007. DOE's decision, consistent with the Preferred Alternative analyzed in the Conveyance and Transfer EIS, was to convey or transfer seven tracts in whole and three tracts (the Airport, TA-21 and White Rock Y Tracts) in part. Portions of the three partial tracts were not conveyed or transferred by DOE because of potential national security mission needs for retaining security, health, and safety buffer zones surrounding operational areas identified by DOE prior to the issuance of the ROD. While the suitability criteria were considered in the formulation of the Preferred Alternative, the national security mission support criteria led DOE to the recognition that portions of the these tracts may not be available for conveyance or transfer within the 10-year period specified by PL 105-119. DOE's decision at that time was to convey or transfer 110 acres of the Airport Tract, 20 acres of the TA-21 Tract, and 125 acres of the White Rock Y Tract. DOE stated in the ROD that it would make every effort to minimize the portions of the tracts it retains and only retain essential areas and convey or transfer the remainder of the tracts before the 2007 deadline.

On June 26, 2002, NNSA issued an Amended ROD [67 FR 45495; July 9, 2002 (No. 131)] that announced NNSA's determination that an 8-acre portion of the Airport Tract at its western end that had been retained to serve as a health and safety buffer zone was no longer required for that purpose and could be conveyed. NNSA additionally identified that two portions of the White Rock Y Tract containing stretches of public roadways along State Road 502 and State Road 4 totaling about 74 acres that were unlikely to be needed to serve as health and safety buffers and could be conveyed as well.

The Airport Tract originally consisted of about 205 acres (83 hectares). Located east of the Los Alamos townsite, it is close to the East Gate Business Park. The Los Alamos Airport is located on part of the tract, while other portions of the tract are undeveloped. NNSA currently retains about 87 acres of land within the original Airport Tract under its administrative control.

The TA-21 Tract originally consisted of about 260 acres (105 hectares). This tract is located at the eastern end of DP Mesa between DP and Los Alamos Canyons close to the business district of the Los Alamos townsite. LANL's TA-21 is one of the oldest technical areas at LANL; it is the site of the former plutonium processing facility and the current location of the Tritium Science and Fabrication Facility (TSFF). The Tritium Systems Test Assembly (TSTA) operations were located at TA-21 until about a year ago when these operations ceased. The NNSA currently retains about 240 acres of this tract under its administrative control.

The White Rock Y Tract originally consisted of about 540 acres (219 hectares). It is undeveloped and portions of the tract are associated with the major transportation routes connecting Los Alamos with northern New Mexico. The NNSA currently retains about 341 acres of this tract under its administrative control.

II. Need To Change the Conveyance and Transfer Portions of a Retained Tract

The original 2000 ROD for the Conveyance and Transfer EIS stated that for the tracts that were conveyed in part, DOE would continue to resolve outstanding national security mission support issues on the remaining portions of the tracts so that conveyance or transfer of those portions could occur before the end of the 2007 deadline stated in the Act. DOE could include deed restrictions, notices, and similar land use controls as deemed appropriate and necessary that are protective of human health and safety to facilitate the transfer of the remaining portions of tracts.

A. Need for Existing Facilities at TA-21

In 2000, TA-21 Tract housed both the Tritium Systems Test Assembly (TSTA) and the Tritium Sciences and Fabrication Facility (TSFF), and both of these facilities were scheduled to continue operation past the year 2007. These two research facilities were identified as being needed for the national security mission and there were no formal plans to relocate them at that time. However, DOE was even then in the early stages of assessing the feasibility of relocating these operations to another facility within LANL. Over the past four years, NNSA has reviewed both its long-term continued need for the TSTA facility and the feasibility of relocating the TSFF tritium operations away from TA-21 to other tritium operations facilities at LANL. NNSA concluded in 2002 that the operation of the TSTA was not needed in the long term and the facility has since been discontinued. The TSFF is planed for relocation to another LANL site. The nuclear material inventory of the TA-21 facilities has been reduced according to these changes in site operations. The discontinuance of the TSTA facility operations and removal of the TSFF facility operations, together with removal of TA-21 offices and assorted storage support facilities, would allow the facility and all of TA-21 to be completely decommissioned, decontaminated and demolished. It is unlikely, however, that all three of these steps in the dismantling of the technical area could occur before 2007. In the near term, however, NNSA has determined that about an additional 32.3-acre portion of the Airport Tract situated along the south side of State Road 502 on the Townsite Mesa top (and to the north of TA21) that had been retained for the purpose of serving as a health and safety buffer for the TA-21 TSTA and TSFF operations is no longer required for that purpose. This partial tract (referred to as A-5-1) can now be conveyed. This will leave about 55 acres of land within the Airport Tract under the administrative control of the NNSA.

III. Amended Decision

NNSA is modifying its decision on conveyance and transfer of certain land tracts at LANL as stated in the following paragraph. Should NNSA no longer need portions of these and other tracts for national security mission support needs, NNSA will again reassess the retainment of partial tract areas and amend the Record of Decision, as needed.

• The Airport Tract currently consists of about 87 acres (35 hectares), east of the Los Alamos townsite and near the East Gate Business Park. The Los Alamos Airport is located on the northern part of the tract, while other portions of the tract are undeveloped. Portions of the Airport Tract will continue to be needed to serve as health and safety buffer areas for the tritium activities while they continue within TA-21. In March 2000, DOE decided to convey or transfer part of the tract, approximately 110 acres North of East Road. With the planned shutdown of portions of its tritium activities at TA-21, NNSA conveyed an additional 8-acre portion of the Airport Tract in 2002. NNSA will now convey a 32.3-acre portion of the Airport Tract located along the south side of State Road 502 that is on top of Townsite Mesa.

Issued in Washington, DC, July 28, 2005.
Linton F. Brooks,
Administrator, National Nuclear Security Administration.

[FR Doc. 05-16276 Filed 8-16-05; 8:45 am]

BILLING CODE 6450-01-P